DEPARTMENT OF HEALTH AND HUMAN SERVICES

Health Resources and Services Administration

Advisory Council on Blood Stem Cell Transplantation; Notice of Meeting

In accordance with section 10(a)(2) of the Federal Advisory Committee Act (Pub. L. 92-463), notice is hereby given of the following meeting:

Name: Advisory Council on Blood Stem Cell Transplantation (ACBSCT).

Date and Time: March 3, 2016, from 12:00 p.m. to 4:00 p.m. Eastern Standard Time.

Place: The meeting will be via audio conference call and Adobe Connect Pro.

Status: The meeting will be open to the public.

Purpose: Pursuant to Public Law 109-129, 42 U.S.C. 274k (section 379 of the Public Health Service Act, as amended), the ACBSCT advises the Secretary of Health and Human Services and the Administrator, Health Resources and Services Administration (HRSA), on matters related to the activities of the C.W. Bill Young Cell Transplantation Program (Program) and the National Cord Blood Inventory Program.

Agenda: The Council will hear a report from the ACBSCT Work Group on Cord Blood. The Council also will hear presentations and discussions on topics including the National Institutes of Health's Late Effects Initiative and the Center for International Blood and Marrow Transplant Research. Agenda items are subject to changes as priorities indicate.

After Council discussions, members of the public will have an opportunity to provide comment. Because of the Council's full agenda and timeframe in which to cover the agenda topics, public comment may be limited. All public comments will be included in the record of the ACBSCT meeting. Meeting summary notes will be posted on the HRSA's Program Web site at http://bloodcell.transplant.hrsa.gov/ABOUT/Advisory_Council/index.html.

The draft meeting agenda will be posted on https://www.blsmeetings.net/ACBSCT/. Those participating at this meeting should register by visiting https://www.blsmeetings.net/ACBSCT/. The deadline to register for this meeting is Tuesday, March 1, 2016. For all logistical questions and concerns, please contact Anthony Rodell, Seamon Corporation, at (301) 658-3457 or send an email to arodell@SeamonCorporation.com.

The public can join the meeting by:

1. (Audio Portion) Calling the Conference Phone Number (1-800-988-9777) and providing the Participant Code (6253775); and

2. (Visual Portion) Connecting to the ACBSCT Adobe Connect Pro Meeting using the following URL and entering as GUEST: https://hrsa.connectsolutions.com/acbsct_webinar/ (copy and paste the link into your browser if it does not work directly).

Participants should call and connect 15 minutes prior to the meeting in order for logistics to be set up. If you have never attended an Adobe Connect meeting, please test your connection using the following URL: https://hrsa.connectsolutions.com/common/help/en/support/meeting_test.htm and get a quick overview by following URL: http://www.adobe.com/go/connectpro_overview. Call (301) 443-0437 or send an email to ptongele@hrsa.gov if you are having trouble connecting to the meeting site.

Public Comment: It is preferred that persons interested in providing an oral presentation email a written request, along with a copy of their presentation, to Patricia Stroup, MBA, MPA, Executive Secretary, Advisory Council on Blood Stem Cell Transplantation, Healthcare Systems Bureau, Health Resources and Services Administration, at pstroup@hrsa.gov. Requests should contain the name, address, telephone number, email address, and any business or professional affiliation of the person desiring to make an oral presentation. Groups having similar interests are requested to combine their comments and present them through a single representative. Individuals who plan to attend and need special assistance, such as sign language interpretation or other reasonable accommodations, should notify the contact person listed above at least 10 days prior to the meeting.

The allocation of time may be adjusted to accommodate the level of expressed interest. Persons who do not file an advance request for a presentation, but desire to make an oral statement, may request it during the public comment period. Public participation and ability to comment may be limited to time as it permits.

FOR FURTHER INFORMATION CONTACT: Patricia Stroup, MBA, MPA, Executive Secretary, ACBSCT, Healthcare Systems Bureau, Health Resources and Services Administration, 5600 Fishers Lane, Room 08N182, Rockville, Maryland 20857; telephone at (301) 443-1127.

Jackie Painter,
Director, Division of the Executive Secretariat.

[FR Doc. 2016-02572 Filed 2-9-16; 8:45 am]

BILLING CODE 4165-15-P